DEPARTMENT OF LABOR

Office of the Secretary

Submission for OMB Review: Comment Request

December 20, 2004.

The Department of Labor (DOL) has submitted the following public information collection request (ICR) to the Office of Management and Budget (OMB) for review and approval in accordance with the Paperwork Reduction Act of 1995 (Public Law 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Office of the Secretary, Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Office of the Assistant Secretary for Administration and Management, Civil Rights Center.

Type of Review: Extension of currently approved collection.

Title: Compliance Information Report—29 CFR Part 37 Nondiscrimination—Workforce Investment Act of 1998.

OMB Number: 1225-0077.

Form Number: DL-1-2014A.

Frequency: On occasion; Biennially; and Annually.

Type of Response: Reporting; Recordkeeping; and Third party disclosure.

Affected Public: State, local, or tribal government and Individuals or households.

Number of Respondents: 34,884,387.

Collection of information | Number of respondents | Average response time (hours) | Annual burden hours
Data and Information Collection and Maintenance | 34,884,387 | 0.006 | 193,802
Compliant Log | 1,200 | 0.050 | 60
Methods of Administration: |  |  |
Periodic Updates | 26 | 6 | 156
Biennial Updates | 39 | 3 | 117
Compliant Information and Privacy Act Form | 900 | 0.25 | 225
Written Justifications | 20 | 2.00 | 40
Total | 34,886,572 |  | 194,400

Total Annualized Capital/Startup Costs: $0.

Total Annual Costs (Operating/Maintaining Systems or Purchasing Services): $125,200.

Description: The Compliance Information Report and the information collection requirements at 29 CFR part 37 are designed to ensure that programs or activities funded in whole or in part by the Department of Labor operate in a nondiscriminatory manner. The Report requires such programs and activities to collect, maintain and report upon request from the Department, race, ethnicity, sex, age and disability data for program applicants, eligible applicants, participants, terminees, applicants for employment and employees. The Form DL-1-2014A is used for filing a complaint of alleged discrimination.

Ira L. Mills,
Departmental Clearance Officer.

[FR Doc. 05-157 Filed 1-4-05; 8:45 am]

BILLING CODE 4510-23-P